DEPARTMENT OF THE INTERIOR

Fish and Wildlife Service

Availability of a Draft Environmental Assessment and Receipt of Application for an Incidental Take Permit for Pinery Glen, Douglas County, CO

AGENCY: Fish and Wildlife Service, Interior.

ACTION: Notice of availability and receipt of application.

SUMMARY: This notice advises the public that Continental Homes (Applicant) has applied to the Fish and Wildlife Service (Service) for an Incidental Take Permit (ITP) pursuant to section 10(a)(1)(B) of the Endangered Species Act of 1973 as amended (Act). The Service proposes to issue a 10-year permit to the Applicant that would authorize the incidental take of Preble's meadow jumping mouse (Preble's) (Zapus hudsonius preblei), federally listed as threatened, and loss and modification of its habitat associated with construction of a residential subdivision in Douglas County, Colorado. Construction of the subdivision has resulted in the loss of approximately 18.79 acres and will result in future loss of up to 2.86 acres of upland field that provides potential foraging and hibernation habitat for Preble's. The permit application includes a combined Environmental Assessment/Habitat Conservation Plan (Plan), which is available for public review and comment. The Plan fully describes the proposed project and the measures the Applicant will undertake to minimize and mitigate project impacts to Preble's.

The Service requests comments on the Plan for the proposed issuance of an ITP. We provide this notice pursuant to section 10(a) of the Act and National Environmental Policy Act regulations (40 CFR 1506.6). All comments on the Plan and permit application will become part of the administrative record and will be available to the public.

DATES: Written comments on the permit application and Plan should be received on or before December 17, 2001.

ADDRESSES: Comments regarding the permit application or the Plan should be addressed to LeRoy Carlson, Field Supervisor, Fish and Wildlife Service, Colorado Field Office, 755 Parfet Street, Suite 361, Lakewood, Colorado 80215. Comments may be sent by facsimile to (303) 275-2371.

FOR FURTHER INFORMATION, CONTACT: Kathleen Linder, Fish and Wildlife Biologist, Colorado Field Office, telephone (303) 275-2370.

SUPPLEMENTARY INFORMATION:

Document Availability

Individuals wishing copies of the Plan and associated documents for review should immediately contact the above office. Documents also will be available for public inspection, by appointment, during normal business hours at the above address.

Background

Section 9 of the Act and Federal regulation prohibits the “take” of a species listed as endangered or threatened, respectively (take is defined under the Act as to harass, harm, pursue, hunt, shoot, wound, kill, trap, capture or collect, or to attempt to engage in any such conduct). However, the Service may issue permits to authorize “incidental take” (defined by the Act as take that is incidental to, and not the purpose of, the carrying out of an otherwise lawful activity) of listed species under limited circumstances. Regulations governing permits for threatened species are promulgated in 50 CFR 17.32; regulations governing permits for endangered species are promulgated in 50 CFR 17.22.

The proposed action is the issuance of a permit under section 10(a)(1)(B) of the Act to allow the incidental take of Preble's during the construction of a residential subdivision at the site. The project has directly affected approximately 18.79 acres and proposes to affect an additional 2.86 acres of potential habitat for Preble's. A Plan has been developed as part of the preferred alternative. The proposed Plan will allow for the incidental take of Preble's by permitting the construction of the residential subdivision in areas that Preble's use as foraging or hibernation habitat. Construction will result in approximately 8.75 acres of permanent habitat loss and approximately 12.9 acres of temporary impact to the habitat associated with localized disturbance.

The Preble's is the only federally listed species that occurs on site and has the potential to be directly affected by the proposed project. The Applicant has agreed to implement the following measures to minimize and mitigate impacts that may result from incidental take of Preble's:

1. Restore 13.76 acres of upland field adjacent to the intermediate terrace along Cherry Creek. Restoration will include fertilizer application, native grass seeding, and native tree and shrub planting.

2. Establish five stormwater detention basins adjacent to the intermediate terraces along Cherry Creek within the 13.76 acres being restored. These basins will include the combination of wetland/upland herbaceous plants and lush grasses with riparian shrubs to create additional mouse habitat. These basins are expected to exhibit seasonal inundation and to function as emergent wetlands with temporary open water during times of high precipitation and runoff.

3. Enhance 46.9 acres of upper, intermediate, and lower terraces adjacent to Cherry Creek. Enhancement will include leafy spurge control through herbicide, mowing, and biological control, as necessary. Areas treated for leafy spurge will receive fertilizer application, native grass seeding, and native tree and shrub planting. The remaining areas will be enhanced by planting native trees and shrubs selected for appropriate moisture regimes, depending on proximity to Cherry Creek.

4. Enhance an additional 15 acres of upland field adjacent to Cherry Creek. The Applicant will use 5 acres as back-up mitigation to meet the 46.9 acres of total enhancement. An additional 10 acres will be enhanced for Douglas County to be held as a Preble's habitat mitigation bank for future county needs. These additional 15 acres will be enhanced as described in subsection 3 above.

This notice is provided pursuant to section 10(c) of the Act. The Service will evaluate the permit application, the Plan, and comments submitted therein to determine whether the application meets the requirements of section 10(a) of the Act. If it is determined that those requirements are met, a permit will be issued for the incidental take of Preble's. The final permit decision will be made no sooner than 60 days from the date of this notice.

Dated: October 1, 2001.
John A. Blankenship,
Deputy Regional Director, Denver, Colorado.

[FR Doc. 01-26078 Filed 10-16-01; 8:45 am]

BILLING CODE 4310-55-P